DEPARTMENT OF DEFENSE

Office of the Secretary

Defense Intelligence Agency National Defense Intelligence College Board of Visitors Closed Meeting

AGENCY: National Defense Intelligence College, Defense Intelligence Agency, Department of Defense.

ACTION: Notice of Closed Meeting.

SUMMARY: Pursuant to the provisions of Subsection (d) of Section 10 of Public Law 92-463, as amended by section 5 of Public Law 94-409, notice is hereby given that a closed meeting of the Defense Intelligence Agency National Defense Intelligence College Board of Visitors has been scheduled as follows:

DATES: Tuesday, January 18, 2011 (8 a.m. to 5 p.m.), and Wednesday, January 19, 2011 (8 a.m. to 12 p.m.).

ADDRESSES: National Defense Intelligence College, Washington, DC 20340-5100.

FOR FURTHER INFORMATION CONTACT: Dr. David R. Ellison, President, DIA National Defense Intelligence College, Washington, DC 20340-5100 (202-231-3344).

SUPPLEMENTARY INFORMATION: The entire meeting is devoted to the discussion of classified information as defined in Section 552b(c)(1), Title 5 of the U.S. Code and therefore will be closed. The Board will discuss several current critical intelligence issues and advise the Director, DIA, as to the successful accomplishment of the mission assigned to the National Defense Intelligence College.

Dated: November 30, 2010.
Morgan F. Park,
Alternate OSD Federal Register Liaison Officer, Department of Defense.

[FR Doc. 2010-30723 Filed 12-7-10; 8:45 am]

BILLING CODE 5001-06-P